DEPARTMENT OF THE INTERIOR

Bureau of Land Management

[CA-160-1430-ET; CACA 42632]

Notice of Proposed Withdrawal and Opportunity for Public Meeting; California

AGENCY: Bureau of Land Management, Interior.

ACTION: Notice.

SUMMARY: The Bureau of Land Management proposes to withdraw approximately 20 acres of public land in San Luis Obispo County to assure long term protection and management of historic structures, archaeological resources, wildlife habitat, scenic quality, and high educational and interpretative values of the public land and resources, located at Point Piedras Blancas. The Bureau of Land Management is proposing to manage the land and its resources in a collaborative effort with other Federal and State agencies. The Piedras Blancas Light Station was listed on the National Register of Historic Places on September 3, 1991. The adjacent coastline is part of the California Coastal National Monument and the Monterey Bay National Marine Sanctuary. This notice closes the land for up to 2 years from mining. The land will remain open to mineral leasing and the Materials Act of 1947.

DATES: Comments and requests for a public meeting must be received by April 23, 2001.

ADDRESSES: Comments and meeting requests should be sent to the Field Manager, Bureau of Land Management, Bakersfield Field Office, 3801 Pegasus Drive, Bakersfield, California 93308.

FOR FURTHER INFORMATION CONTACT: Duane Marti, Bureau of Land Management California State Office, 916-978-4675.

SUPPLEMENTARY INFORMATION: On January 16, 2001, a petition was approved allowing the Bureau of Land Management to file an application to withdraw the following described public land from location and entry under the United States mining laws, subject to valid existing rights:

Mount Diablo Meridian, California

T. 26 S., R. 6 E.,

U. S. Lighthouse Reserve.

The area described contains approximately 20 acres in San Luis Obispo County.

The purpose of the proposed withdrawal is to assure long term protection and management of historic structures, archaeological resources, wildlife habitat, scenic quality, and high educational and interpretative values of the public land and resources, located at Point Piedras Blancas.

Until April 23, 2001, all persons who wish to submit comments, suggestions, or objections in connection with the proposed withdrawal may present their views in writing to the Field Manager, Bakersfield Field Office of the Bureau of Land Management.

Notice is hereby given that an opportunity for a public meeting is afforded in connection with the proposed withdrawal. All interested persons who desire a public meeting for the purpose of being heard on the proposed withdrawal must submit a written request to the Field Manager, Bakersfield Field Office April 23, 2001. Upon determination by the authorized officer that a public meeting will be held, a notice of the time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. The temporary uses which may be permitted during this segregative period are those which are compatible with the use of the lands, as determined by the Bureau of Land Management.

Dated: January 17, 2001.
Duane Marti,
Acting Chief, Branch of Lands.

[FR Doc. 01-1998 Filed 1-22-01; 8:45 am]

BILLING CODE 4310-40-P